Title 3—

The President

Executive Order 13860 of March 4, 2019

Supporting the Transition of Active Duty Service Members and Military Veterans Into the Merchant Marine

By the authority vested in me as President by the Constitution and the laws of the United States of America, and to promote employment opportunities for United States military veterans while growing the cadre of trained United States mariners available to meet United States requirements for national and economic security, it is hereby ordered as follows:

Section 1. Policy. It is the policy of the United States to support practices and programs that ensure that members of the United States Armed Forces receive appropriate credit for their military training and experience, upon request, toward credentialing requirements as a merchant mariner. It is further the policy of the United States to establish and maintain an effective merchant marine program by providing sufficient support and resources to active duty and separating service members who pursue or possess merchant mariner credentials.

A robust merchant marine is vital to the national and economic security of the United States. Credentialed United States merchant mariners support domestic and international trade, are critical for strategic defensive and offensive military sealift operations, and bring added expertise to Federal vessel operations. Unfortunately, the United States faces a shortage of qualified merchant mariners. As our strategic competitors expand their global footprint, the United States must retain its ability to project and sustain forces globally. This capability requires a sufficient corps of credentialed merchant mariners available to crew the necessary sealift fleet. Attracting additional trained and credentialed mariners, particularly from active duty service members and military veterans, will support United States national security requirements and provide meaningful, well-paying jobs to United States veterans.

Sec. 2. Definition. For the purposes of this order, the term “applicable service” includes any of the “armed forces,” as that term is defined in section 101(a)(4)(A) of title 10, United States Code.

Sec. 3. Credentialing Support. (a) To support merchant mariner credentialing and the maintenance of such credentials, the Secretary of Defense and the Secretary of Homeland Security, with respect to the applicable services in their respective departments, and in coordination with one another and with the United States Committee on the Marine Transportation System, shall, consistent with applicable law:

(i) Within 1 year from the date of this order, identify all military training and experience within the applicable service that may qualify for merchant mariner credentialing, and submit a list of all identified military training and experience to the United States Coast Guard National Maritime Center for a determination of whether such training and experience counts for credentialing purposes;

(ii) With respect to National Maritime Center license evaluation, issuance, and examination, take all necessary and appropriate actions to provide for the waiver of fees for active duty service members, if a waiver is authorized and appropriate, and, if a waiver is not granted, take all necessary and appropriate actions to provide for the payment of fees for active duty service members by the applicable service to the fullest extent permitted by law;

(iii) Direct the applicable services to take all necessary and appropriate actions to pay for Transportation Worker Identification Credential cards for active duty service members pursuing or possessing a mariner credential;

(iv) Ensure that members of the applicable services who are to be discharged or released from active duty and who request certification or verification of sea service be provided such certification or verification no later than 1 month after discharge or release; and

(v) Ensure the applicable services have developed, or continue to operate, as appropriate, the online resource known as Credentialing Opportunities On-Line to support separating service members seeking information and assistance on merchant mariner credentialing.

(b) The United States Committee on the Marine Transportation System shall pursue innovative ways to support merchant mariner credentialing, including through continuation of the Military to Mariner Initiative as appropriate, and shall provide a yearly status report on its efforts under the provisions of this order to the President through the White House Office of Trade and Manufacturing Policy.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 4, 2019.

[FR Doc. 2019-04298

Filed 3-6-19; 11:15 am]

Billing code 3295-F9-P